DEPARTMENT OF COMMERCE

National Oceanic and Atmospheric Administration

50 CFR Part 648

[I.D. 020703D]

New England Fishery Management Council; Public Meeting

AGENCY: National Marine Fisheries Service (NMFS), National Oceanic and Atmospheric Administration (NOAA), Commerce.

ACTION: Public meeting.

SUMMARY: The New England Fishery Management Council (Council) will hold a 3-day Council meeting on March 4, 5, and 6, 2003, to consider actions affecting New England fisheries in the U.S. exclusive economic zone (EEZ).

DATES: The meeting will be held on Tuesday, Wednesday, and Thursday March 4, 5, and 6, 2003. The meeting will begin at 1:30 a.m. on Tuesday and 8:30 a.m. on Wednesday and Thursday.

ADDRESSES: The meeting will be held at the Providence Biltmore Hotel, 11 Dorrance Street, Kennedy Plaza, Providence, RI 02903; telephone 401/412-0700. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, March 4, 2003

Following introductions, the Council will address a number of groundfish fishery-related issues during this first afternoon session. There will be a briefing on the February 3-5, 2003 Groundfish Peer Review meeting, and a discussion about incorporation of those meeting results, including advice on biological reference points, into the Northeast Multispecies Fishery Management Plan (FMP) Amendment 13 Draft Supplemental Environmental Impact Statement (DSEIS).

Wednesday, March 5, 2003

The meeting will reconvene with reports on recent activities from the Council Chairman and Executive Director, the NMFS Regional Administrator, Northeast Fisheries Science Center and Mid-Atlantic Fishery Management Council liaisons, NOAA General Counsel and representatives of the U.S. Coast Guard, NMFS Enforcement and the Atlantic States Marine Fisheries Commission. The Groundfish Committee will report on and ask the Council to identify management alternatives for further development and inclusion in the Amendment 13 DSEIS. Their discussion also will relate to measures that would implement the U.S./Canada Resource Sharing Agreement, groundfish stock rebuilding time periods and modifications to alternatives as necessary to meet any revised fishing mortality targets. The Groundfish Committee report will continue until the end of the day.

Thursday, March 6, 2003

The third day of the meeting will begin with a presentation by NMFS staff on the agency's new coastwide initiative to collect recreational fishing data. The report will include details about the methodology that will be employed to collect catch and effort data from the for-hire recreational fleet. The presentation will be followed by a brief public comment period during which any member of the public may bring forward items relevant to Council business but not otherwise listed on the agenda for this meeting. The Habitat Committee will report on recommendations developed at the recent Groundfish, Scallop and Monkfish Joint Advisors meeting on habitat alternatives for Council consideration in Amendment 10 to the Atlantic Sea Scallop FMP and in Amendment 13 to the Northeast Multispecies FMP. The Habitat Committee also will identify a preferred alternative for Scallop Amendment 10. Finally, the Council will review the habitat section, with all alternatives and analyses, of the Northeast Multispecies Amendment 13 DSEIS, select a preferred alternative and conduct a final vote to approve this element of the DSEIS. The Council meeting will adjourn following the conclusion of any other outstanding business. Although other non-emergency issues not contained in this agenda may come before this Council for discussion, those issues may not be the subjects of formal action during this meeting. Council action will be restricted to those issues specifically listed in this notice and any issues arising after publication of this notice that require emergency action under section 305(c) of the Magnuson-Stevens Fishery Conservation and Management Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: February 11, 2003.
Richard W. Surdi,
Acting Director, Office of Sustainable Fisheries, National Marine Fisheries Service.

[FR Doc. 03-3990 Filed 2-18-03; 8:45 am]

BILLING CODE 3510-22-S